DEPARTMENT OF TRANSPORTATION

Coast Guard

[USCG-2001-10941]

Navigation Safety Advisory Council; Meeting

AGENCY: Coast Guard, DOT.

ACTION: Notice of meeting.

SUMMARY: The Navigation Safety Advisory Council (NAVSAC) will meet to discuss various issues relating to the safety of navigation. The meetings are open to the public.

DATES: NAVSAC will meet on Monday and Tuesday, December 10 and 11, 2001, from 8:30 a.m. to 5 p.m., and on Wednesday, December 12, 2001, from 8 a.m. to 12 noon. The meeting may close early if all business is finished. Written material and requests to make oral presentations should reach the Coast Guard on or before November 28, 2001. Requests to have material distributed to each member of the Council prior to the meeting should reach the Executive Director of NASAC along with 25 copies of the material on or before November 21, 2001.

ADDRESSES: NAVSAC will meet at The Embassy Suites Hotel, 601 Pacific Highway, San Diego, CA 92101. Send written material and requests to make oral presentations to Ms. Margie G. Hegy, Commandant (G-MW), U.S. Coast Guard Headquarters, 2100 Second Street SW., Washington, DC 20593-0001. This notice is available on the Internet at http://dms.dot.gov.

FOR FURTHER INFORMATION CONTACT: Ms. Margie G. Hegy, Executive Director of NAVSAC, telephone 202-267-0415, fax 202-267-4700.

SUPPLEMENTARY INFORMATION: Notice of this meeting is given under the Federal Advisory Committee Act, 5 U.S.C. App. 2.

Agenda of Meeting

The agenda includes the following:

(1) Maritime security briefing and member information exchange.

(2) Update on the Marine Transportation System (MTS) Initiative.

(3) Presentation on International Safety Management (ISM) Code.

(4) Status report on ballast water issues.

(5) Acceleration of Automatic Identification System (AIS) Implementation.

(6) Presentation on Pacific States/British Columbia Oil Spill Task Force's Offshore Vessel Traffic Risk Management Project.

(7) Council planning session for 2002.

Procedural

All meetings are open to the public. Please note that the meeting may close early if all business is finished. At the Chair's discretion, members of the public may make oral presentations during the meetings. If you would like to make an oral presentation, please notify the Executive Director no later than November 28, 2001. Written material for distribution at a meeting should reach the Coast Guard no later than November 28, 2001. If you would like a copy of your material distributed to each member of the Council in advance of the meeting, please submit 25 copies to the Executive Director no later than November 21, 2001.

Information on Services for Individuals With Disabilities

For information on facilities or services for individuals with disabilities or to request special assistance at the meetings, contact the Executive Director as soon as possible.

Dated: November 5, 2001.
Jeffrey P. High,
Director of Waterways Management.

[FR Doc. 01-28161 Filed 11-8-01; 8:45 am]

BILLING CODE 4910-15-U